COURT SERVICES AND OFFENDER SUPERVISION AGENCY

Privacy Act of 1974: New System of Records

AGENCY: Court Services and Offender Supervision Agency (CSOSA).

ACTION: Notice of a new system of records.

SUMMARY: CSOSA proposes to add a new system of records to its inventory of record systems subject to the Privacy Act of 1974 (5 U.S.C. 552a), as amended, titled “Biometric Verification System (CSOSA-20).” This action is necessary to meet the requirements of the Privacy Act to publish in the Federal Register notice of the existence and character of records maintained by the agency (5 U.S.C. 552a(e)(4)). The Biometric Verification System allows individuals under supervision to electronically check-in for office visits, programs, and drug lab testing.

DATES: Submit written comments on or before May 16, 2013. This new system will be effective May 16, 2013 unless comments are received that would result in a contrary determination.

ADDRESSES: You may submit written comments, identified by “Biometric Verification System, CSOSA-20” to Rorey Smith, Deputy General Counsel and Chief Privacy Officer, Office of General Counsel, Court Services and Offender Supervision Agency, 633 Indiana Avenue NW., Room 1380, Washington, DC 20004, or to rorey.smith@csosa.gov.

FOR FURTHER INFORMATION CONTACT: Rorey Smith, (202) 220-5797, Office of General Counsel, Court Services and Offender Supervision Agency, Washington, DC 20004.

SUPPLEMENTARY INFORMATION: In accordance with the Privacy Act of 1974, 5 U.S.C. 552a, CSOSA proposes to establish a new system of records titled, “Biometric Verification System.” The system provides electronic data necessary for efficient accounting of an individual's participation in required events and allows CSOSA staff members to properly verify the individual's identity at the time of check-in by matching the individual's physical presence with photo and other information retrieved by the system, based on a successful match of the entered PIN and hand biometric. This system mitigates the risks associated with use of a physical sign-in log (e.g., inaccurate accounting for attendance, someone signing in for someone else, etc.) when an individual checks in for an office visit, drug testing, or assigned intervention/assistance program.

In accordance with 5 U.S.C. 552a(r), CSOSA has provided a report of this system of records to the Office of Management and Budget and to Congress.

SYSTEM OF RECORDS:

Biometric Verification System—CSOSA-20.

SYSTEM NAME:

Biometric Verification System.

SECURITY CLASSIFICATION:

Unclassified.

SYSTEM LOCATION:

The Biometric Verification System application and database records are maintained at CSOSA, Office of Information Technology, 633 Indiana Avenue NW., 7th Floor, Washington, DC 20004.

CATEGORIES OF INDIVIDUALS COVERED BY THE SYSTEM:

Individuals covered by the system are those under supervision who are enrolled in the Biometric Verification System for the purpose of checking-in for an office visit, program activity or drug testing. In addition, there is information on CSOSA staff members who are authorized to access and use the system.

CATEGORIES OF RECORDS IN THE SYSTEM:

This system may contain, but is not limited to: Identification Numbers: Police Department Identification (PDID), CSOSA Number, Probationer Identification Number (PIN); a hand biometric scan; and information generated by the Biometric Verification System at the time of a successful check-in (date, time, location and venue of check-in).

In addition, categories of records on those under supervision that are displayed through (but not stored in) the Biometric Verification System include: individual's name; date of birth; identification numbers: Police Department Identification (PDID), CSOSA Number, Probationer Identification Number (PIN); supervision photo; supervision information (Community Supervision Officer's name, team number and branch)

Categories of records on CSOSA staff members in the Biometric Verification System include: logon information (username); assigned role/permission level in the system; individual's name; and agency phone number, email, title, supervisor, office location.

AUTHORITY FOR MAINTENANCE OF THE SYSTEM:

Information maintained in the Biometric Verification System is collected pursuant to the National Capital Revitalization and Self-Government Improvement Act of 1997 (the Act), Public Law 105-33, DC Official Code § 24-133. The Act grants CSOSA the authority to supervise District of Columbia individuals on probation, parole, and supervised release.

PURPOSE(S):

The Biometric Verification System and use of biometric hand readers at CSOSA allows individuals under CSOSA supervision to electronically “check-in” for office visits, programs, and drug lab testing. In addition, the system properly verifies a participant's identity at the time of check-in, thereby reducing the risk of inaccurate accounting of an individual's participation.

ROUTINE USES OF RECORDS MAINTAINED IN THE SYSTEM, INCLUDING CATEGORIES OF USERS AND THE PURPOSES OF SUCH USES:

CSOSA is not establishing routine uses for the Biometric Verification System at this time; however, CSOSA will make other disclosures generally permitted under 5 U.S.C. 552a(b) of the Privacy Act.

DISCLOSURE TO CONSUMER REPORTING AGENCIES:

None.

POLICIES AND PRACTICES FOR STORING, RETREIVING, ACCESSING, RETAINING, AND DISPOSING OF RECORDS IN THE SYSTEM:

STORAGE:

Records in this system are stored electronically or on paper in secure facilities behind a locked door. The records may be stored on magnetic disc, tape, other digital media, and/or on paper.

RETRIEVABILITY:

CSOSA staff members are able to search and retrieve the information by a number of personal identifiers: last name, first name, date of birth, Police Department Identification (PDID), PIN, or CSOSA Number.

SAFEGUARDS:

Records in this system are safeguarded in accordance with application laws, rules and policies, including federal and all applicable CSOSA automated systems security and access policies. Strict controls have been imposed to minimize the risk of compromising the information that is being stored. Access to the computer system containing the records in this system is limited to those CSOSA staff members with appropriate clearances or permissions who have a need to know the information or the need to access the system for the performance of their official duties. Individuals enrolled in the Biometric Verification System cannot access records through the biometric hand reader technology.

RETENTION AND DISPOSAL:

The records retention schedule (DAA-0562-2012-0002) has been submitted by CSOSA to the National Archives and Records Administration for review and approval.

SYSTEM MANAGER(S) AND ADDRESS:

Associate Director, Community Supervision Services, Court Services and Offender Supervision Agency, 300 Indiana Avenue NW., Washington, DC 20004.

NOTIFICATION PROCEDURE:

Inquiries concerning this system should be directed to the Office of the General Counsel, Court Services and Offender Supervision Agency, 633 Indiana Avenue NW., Washington, DC 20004.

RECORD ACCESS PROCEDURES:

See “Notification Procedure” above.

CONTESTING RECORD PROCEDURES:

See “Notification Procedure” above.

RECORD SOURCE CATEGORIES:

The information in the Biometric Verification System comes from one of four sources: (1) Another CSOSA IT system, when an offender is enrolled in or checks-in through the Biometric Verification System; (2) the individual under supervision, when the individual enters his/her PIN and uses his/her right hand for the biometric scan each check-in; (3) generated by the Biometric Verification System, when the system generates verification system generates the Probationer ID (PIN), the date generates the Probationer ID (PIN), the date of check-in, time of check-in, the location of the check-in, and the venue (program attendance, office visit, or drug lab testing; and (4) from information entered by CSOSA staff, to include the capture of the hand biometric (offender's right hand), recapture of the hand biometric when needed, entry of the biometric by-pass (if needed), and assisting with all check-ins by selecting the venue and the hand reader to be used for the check-in.

EXEMPTIONS CLAIMED FOR THE SYSTEM:

None.

Dated: April 10, 2013.
Rorey Smith,
Deputy General Counsel and Chief Privacy Officer, Court Services and Offender Supervision Agency.

[FR Doc. 2013-08884 Filed 4-15-13; 8:45 am]

BILLING CODE 3129-04-P